DEPARTMENT OF TRANSPORTATION

Federal Motor Carrier Safety Administration

[Docket No. FMCSA-2017-0060]

Qualification of Drivers; Exemption Applications; Hearing

AGENCY: Federal Motor Carrier Safety Administration (FMCSA), DOT.

ACTION: Notice of applications for exemption; request for comments.

SUMMARY: FMCSA announces receipt of applications from 30 individuals for an exemption from the hearing requirement in the Federal Motor Carrier Safety Regulations (FMCSRs) to operate a commercial motor vehicle (CMV) in interstate commerce. If granted, the exemptions would enable these hard of hearing and deaf individuals to operate CMVs in interstate commerce.

DATES: Comments must be received on or before June 28, 2018.

ADDRESSES: You may submit comments bearing the Federal Docket Management System (FDMS) Docket No. FMCSA-FMCSA-2017-0057 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., e.t., Monday through Friday, except Federal Holidays.

• Fax: 1-202-493-2251.

Instructions: Each submission must include the Agency name and the docket number(s) for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE, Washington, DC, between 9 a.m. and 5 p.m., e.t., Monday through Friday, except Federal holidays. The FDMS is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the FMCSRs for a five-year period if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The 30 individuals listed in this notice have requested an exemption from the hearing requirement in 49 CFR 391.41(b)(11). Accordingly, the Agency will evaluate the qualifications of each applicant to determine whether granting the exemption will achieve the required level of safety mandated by statute.

The physical qualification standard for drivers regarding hearing found in 49 CFR 391.41(b)(11) states that a person is physically qualified to drive a CMV if that person first perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid, 35 FR 6458, 6463 (April 22, 1970) and 36 FR 12857 (July 3, 1971).

On February 1, 2013, FMCSA announced in a Notice of Final Disposition titled, Qualification of Drivers; Application for Exemptions; National Association of the Deaf, (78 FR 7479), its decision to grant requests from 30 individuals for exemptions from the Agency's physical qualification standard concerning hearing for interstate CMV drivers. Since the February 1, 2013 notice, the Agency has published additional notices granting requests from hard of hearing and deaf individuals for exemptions from the Agency's physical qualification standard concerning hearing for interstate CMV drivers.

II. Qualifications of Applicants

Alan M. Bridgeford

Mr. Bridgeford, age 47, holds an operator's license in Nevada.

Mataio Brown

Mr. Brown, age 22, holds an operator's license in Mississippi.

Leroy Carter

Mr. Carter, age 38, holds an operator's license in Ohio.

Robert M. Cates

Mr. Cates, age 66, holds a class A CDL in New Mexico.

Rocky R. Chin

Mr. Chin, age 50, holds a class A CDL in Washington.

Ralph E. Craig

Mr. Craig, age 80, holds a class A CDL in Illinois.

Cesar DeLeon

Mr. DeLeon, age 28, holds an operator's license from Texas.

Brody DiPasquale

Mr. DiPasquale, age 24, holds an operator's license in Maryland.

Edward J. Duhon

Mr. Duhon, age 41, holds an operator's license in Alabama.

Lyle Eash

Mr. Eash, age 39, holds an operator's license in Ohio.

Richard R. Fisher

Mr. Fisher, age 31, holds an operator's license in Pennsylvania.

Kimberly I. Foss

Ms. Foss, age 50, holds a class A CDL in California.

Bradley Ledford

Mr. Ledford, age 29, holds an operator's license in Tennessee.

Dustin McFadden

Mr. McFadden, age 39, holds an operator's license in Texas.

Francisco M. Mendoza

Mr. Mendoza, age 46, holds an operator's license in California.

Jack W. Mitchell

Mr. Mitchell, age 68, holds an operator's license in Texas.

Eugene Mostepan

Mr. Mostepan, age 37, holds an operator's license in California.

Steven Moorehead

Mr. Moorehead, age 58, holds a class A CDL in Ohio.

Gary T. Nagel

Mr. Nagel, age 60, holds an operator's license in Minnesota.

Marcel Paul

Mr. Paul, age 41, holds an operator's license in Washington.

Dexter E. Perez

Mr. Perez, age 32, holds an operator's license in Wisconsin.

Connie Ralston

Ms. Ralston, age 41, holds an operator's license in Georgia.

Noble D. Reed

Mr. Reed, age 53, holds a class A CDL in Texas.

Kurt Sanders

Mr. Sanders, age 47, holds an operator's license in Virginia.

David L. Schibilla

Mr. Schibilla, age 62, holds a class A CDL in Illinois

Pamela Singleton

Ms. Singleton, age 54, holds an operator's license in Texas.

Robert W. Slate

Mr. Slate, age 35, holds an operator's license in New Mexico.

Willine D. Smith

Ms. Smith, age 56, holds a class A CDL in Georgia.

Michael R. Tayman

Mr. Tayman, age 41, holds an operator's license in Maine.

Jason R. Winemiller

Mr. Winemiller, age 44, holds a class A CDL in Illinois.

III. Request for Comments

In accordance with 49 U.S.C. 31136(e) and 31315, FMCSA requests public comment from all interested persons on the exemption petitions described in this notice. We will consider all comments received before the close of business on the closing date indicated in the dates section of the notice.

IV. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2017-0060 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and materials received during the comment period. FMCSA may issue a final determination any time after the close of the comment period.

V. Viewing Comments and Documents

To view comments, as well as any documents mentioned in this preamble, go to http://www.regulations.gov and in the search box insert the docket number FMCSA-2017-0060 and click “Search.” Next, click “Open Docket Folder” and you will find all documents and comments related to this notice.

Issued on: May 17, 2018.
Larry W. Minor,
Associate Administrator for Policy.

[FR Doc. 2018-11434 Filed 5-25-18; 8:45 am]

BILLING CODE 4910-EX-P